DEPARTMENT OF TRANSPORTATION

Federal Aviation Administration

14 CFR Part 39

[Docket No. 2001-NM-152-AD]

RIN 2120-AA64

Airworthiness Directives; McDonnell Douglas Model DC-8-11, DC-8-12, DC-8-21, DC-8-31, DC-8-32, DC-8-33, DC-8-41, DC-8-42, and DC-8-43 Airplanes; DC-8-50 Series Airplanes; DC-8-61 Airplanes; DC-8-61F Airplanes; DC-8-71 Airplanes, and DC-8-71F Airplanes

AGENCY: Federal Aviation Administration, DOT.

ACTION: Notice of proposed rulemaking (NPRM).

SUMMARY: This document proposes to revise an existing airworthiness directive (AD), applicable to certain McDonnell Douglas airplanes. That AD currently requires visual or eddy current inspections of the left and right wing front spar lower caps to detect cracks migrating from attachment holes; and repair, if necessary. That AD also requires a terminating modification of the front spar lower cap. That AD was prompted by a report that additional cracking was found in the front spar lower cap of a wing. The actions specified by that AD are intended to prevent reduced structural integrity of the left or right wing due to metal fatigue failure of the front spar lower cap. This action would extend the compliance time for the follow-on inspection after accomplishment of the terminating modification.

DATES: Comments must be received by March 17, 2003.

ADDRESSES: Submit comments in triplicate to the Federal Aviation Administration (FAA), Transport Airplane Directorate, ANM-114, Attention: Rules Docket No. 2001-NM-152-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2001-NM-152-AD” in the subject line and need not be submitted in triplicate. Comments sent via the Internet as attached electronic files must be formatted in Microsoft Word 97 for Windows or ASCII text.

The service information referenced in the proposed rule may be obtained from Boeing Commercial Aircraft Group, Long Beach Division, 3855 Lakewood Boulevard, Long Beach, California 90846, Attention: Data and Service Management, Dept. C1-L5A (D800-0024). This information may be examined at the FAA, Transport Airplane Directorate, 1601 Lind Avenue, SW., Renton, Washington; or at the FAA, Los Angeles Aircraft Certification Office, 3960 Paramount Boulevard, Lakewood, California.

FOR FURTHER INFORMATION CONTACT: Jon Mowery, Aerospace Engineer, Airframe Branch, ANM-120L, FAA, Los Angeles Aircraft Certification Office, 3960 Paramount Boulevard, Lakewood, California 90712; telephone (562) 627-5231; fax (562) 627-5210.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-152-AD.” The postcard will be date stamped and returned to the commenter.

Availability of NPRMs

Any person may obtain a copy of this NPRM by submitting a request to the FAA, Transport Airplane Directorate, ANM-114, Attention: Rules Docket No. 2001-NM-152-AD, 1601 Lind Avenue, SW., Renton, Washington 98055-4056.

Discussion

On March 12, 2001, the FAA issued AD 2001-06-02, amendment 39-12149 (66 FR 16107, March 23, 2001), applicable to McDonnell Douglas Model DC-8 series airplanes, as listed in McDonnell Douglas Service Bulletin DC-8-57-090, Revision 05, dated June 16, 1997. That AD requires visual or eddy current inspections of the left and right wing front spar lower caps to detect cracks migrating from attachment holes; and repair, if necessary. That AD also requires a terminating modification of the front spar lower cap and a follow-on inspection. That action was prompted by a report that additional cracking was found in the front spar lower cap of a wing. The requirements of that AD are intended to prevent reduced structural integrity of the left or right wing due to metal fatigue failure of the front spar lower cap.

Actions Since Issuance of Previous Rule

Since the issuance of that AD, the FAA has received information that the compliance time for the follow-on inspection after accomplishment of the terminating modification should be within 32,900 landings after the modification rather than within 32,900 flight hours. The compliance time based on landings is longer than that based on flight hours, since the fleet averages 2.7 flight hours for every landing. The FAA has determined that extending the compliance time for the follow-on inspection after the terminating modification will provide an acceptable level of safety.

Explanation of Requirements of Proposed Rule

Since an unsafe condition has been identified that is likely to exist or develop on other products of this same type design, the proposed AD would continue to require modification of the lower front spar cap and a follow-on inspection. However, the proposed AD would change the compliance time for the follow-on inspection from 32,900 flight hours to 32,900 landings after the modification.

Explanation of Change to Applicability in Proposed AD

The FAA has revised the applicability of the existing AD to identify model designations as published in the most recent type certificate data sheet for the affected models. The existing AD specifies the applicability as Model DC-8 series airplanes, as listed in McDonnell Douglas Service Bulletin DC8-57-090, Revision 05, dated June 16, 1997.” The proposed AD specifies the applicability as “McDonnell Douglas Model DC-8-11, DC-8-12, DC-8-21, DC-8-31, DC-8-32, DC-8-33, DC-8-41, DC-8-42, and DC-8-43 airplanes; DC-8-50 series airplanes; DC-8-61 airplanes; DC-8-61F airplanes; DC-8-71 airplanes, and DC-8-71F airplanes.”

Cost Impact

There are approximately 264 Model DC-8 series airplanes of the affected design in the worldwide fleet. The FAA estimates that 244 airplanes of U.S. registry would be affected by this proposed AD.

The initial and repetitive eddy current inspection currently required by AD 2001-06-02 takes approximately 2 work hours per airplane to accomplish at an average labor rate of $60 per work hour. Based on these figures, the cost impact of the currently required inspections on U.S. operators is estimated to be $29,280, or $120 per airplane, per inspection cycle.

The preventive modification currently required by AD 2001-06-02 takes approximately 12 to 14 work hours per airplane to accomplish at an average labor rate of $60 per work hour. Required parts cost between $303 and $1,202 per airplane. Based on these figures, the cost impact of the currently required preventive modification on U.S. operators is estimated to be between $256,773 and $512,542, or between $1,023 and $2,042, per airplane.

The follow-on (post-modification) inspection currently required by AD 2001-06-02 takes approximately 2 work hours per airplane to accomplish at an average labor rate of $60 per work hour. Based on these figures, the cost impact of the currently required follow-on inspection on U.S. operators is estimated to be $29,280, or $120 per airplane. This proposal would increase the compliance time for performing the follow-on inspection, but would not change the estimated cost of that inspection.

The cost impact figures discussed above are based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12149 (66 FR 16107, March 23, 2001), and by adding a new airworthiness directive (AD), to read as follows:

McDonnell Douglas: Docket 2001-NM-152-AD. Revises AD 2001-06-02, Amendment 39-12149.

Applicability: Model DC-8-11, DC-8-12, DC-8-21, DC-8-31, DC-8-32, DC-8-33, DC-8-41, DC-8-42, and DC-8-43 airplanes; DC-8-51, -52, -53, and -55 airplanes; DC-8-61 airplanes; DC-8-61F airplanes; DC-8-71 airplanes, and DC-8-71F airplanes; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (i) of this AD. The request should include an assessment of the effect of the modification, alteration, or repair on the unsafe condition addressed by this AD; and, if the unsafe condition has not been eliminated, the request should include specific proposed actions to address it.

Compliance: Required as indicated, unless accomplished previously.

To prevent reduced structural integrity of the left or right wing due to metal fatigue failure of the front spar lower cap, accomplish the following:

Note 2: This AD will affect the inspections, corrective actions, and reports required by AD 93-01-15, amendment 39-8469 (58 FR 5576, January 22, 1993), for Principal Structural Elements (PSE) 57.08.021 and 57.08.022 of the DC-8 Supplemental Inspection Document (SID).

Note 3: Where there are differences between this AD and the referenced service bulletin, the AD prevails.

Eddy Current Inspection

(a) For airplanes equipped with left or right wing front spar lower cap, part number (P/N) 5597838-1 or -2, not modified per any of the McDonnell Douglas DC-8 service bulletins listed in Table 1 of this AD: Do an eddy current inspection to detect cracks of the lower front spar caps of the wings at the attachment holes of the leading edge assembly between stations Xfs=515.000 and Xfs=526.760, per McDonnell Douglas Service Bulletin DC8-57-090, Revision 05, dated June 16, 1997, at the time specified in either paragraph (a)(1), (a)(2), or (a)(3) of this AD, as applicable. Eddy current inspections done before the effective date of this AD per McDonnell Douglas DC-8 Service Bulletin 57-90, Revision 1, dated June 16, 1988; Revision 2, dated March 1, 1991; Revision 3, dated March 25, 1992; or Revision 4, dated March 3, 1995; are considered acceptable for compliance with the requirements of paragraph (a) of this AD. Table 1 is as follows:

Table 1.—Applicable Service Bulletins for Preventive Modification
Service bulletin | Revision level | Date
57-90 | Original | October 3, 1983
57-90 | 1 | June 16, 1988
57-90 | 2 | March 1, 1991
57-90 | 3 | March 25, 1992
57-90 | 4 | March 3, 1995
DC8-57-090 | 05 | June 16, 1997

(1) For airplanes on which the immediately preceding inspection was conducted using eddy current techniques per AD 86-20-08, amendment 39-5434, prior to April 27, 2001, (the effective date of AD 2001-06-02, amendment 39-12149). Inspect within 3,600 flight hours or 3 years after accomplishment of the last eddy current inspection, whichever occurs first.

(2) For airplanes on which the immediately preceding inspection was conducted visually per AD 86-20-08 prior to April 27, 2001: Inspect within 3,200 flight hours or 2 years after accomplishment of the last visual inspection, whichever occurs first.

(3) For airplanes on which a visual or eddy current inspection or the modification required by AD 86-20-08 has not been done: Inspect before the accumulation of 30,000 total flight hours, or within 200 flight hours after April 27, 2001.

(b) For airplanes other than those identified in paragraph (a) of this AD, not modified per any of the McDonnell Douglas DC-8 service bulletins listed in Table 1 of this AD: Within 3,200 flight hours or 2 years after April 27, 2001, whichever occurs first, do the eddy current inspection specified in paragraph (a) of this AD.

Repetitive Inspections

(c) If no crack is detected during any inspection required by this AD, repeat the eddy current inspection every 3,600 flight hours or 3 years, whichever occurs first.

Repair

(d) If any crack is detected during any inspection required this AD, before further flight, do the action specified in either paragraph (d)(1) or (d)(2) of this AD, as applicable.

(1) For cracks within the limits specified in Conditions 2 through 6, inclusive, Table 1 of paragraph 3.B.4 of the Accomplishment Instructions of McDonnell Douglas Service Bulletin DC8-57-090, Revision 05, dated June 16, 1997: Modify the lower front spar cap per McDonnell Douglas Service Bulletin DC8-57-090, Revision 05, dated June 16, 1997. Accomplishment of the modification constitutes compliance with the requirements of paragraphs (c) and (e) of this AD.

(2) For cracks that exceed the limits specified in Conditions 2 through 6, inclusive, Table 1 of paragraph 3.B.4 of the Accomplishment Instructions of McDonnell Douglas Service Bulletin DC8-57-090, Revision 05, dated June 16, 1997: Repair per a method approved by the Manager, Los Angeles Aircraft Certification Office (ACO), FAA.

Preventive Modification

(e) Before the accumulation of 100,000 total flight hours, modify the lower front spar cap per paragraph 3.B.2.B of the Accomplishment Instructions of McDonnell Douglas Service Bulletin DC8-57-090, Revision 05, dated June 16, 1997. Accomplishment of the modification constitutes compliance with the requirements of paragraphs (a) and (b) of this AD and terminates the repetitive inspection requirements of paragraph (c) of this AD. Modification of the lower front spar cap accomplished before the effective date of this AD per McDonnell Douglas DC-8 Service Bulletin 57-90, dated October 3, 1993; Revision 1, dated June 16, 1988; Revision 2, dated March 1, 1991; Revision 3, dated March 25, 1992; or Revision 4, dated March 3, 1995; is considered acceptable for compliance with the requirements of paragraph (e) of this AD.

(f) Accomplishment of the modification required by paragraph B. of AD 90-16-05, amendment 39-6614 (55 FR 31818, August 6, 1990) (which references “DC-8 Aging Aircraft Service Action Requirements Document” (SARD), McDonnell Douglas Report MDC K1579, Revision A, dated March 1, 1990, as the appropriate source of service information for accomplishing the modification) constitutes compliance with paragraphs (a), (b), and (e) of this AD and terminates the repetitive inspection requirements of paragraph (c) of this AD.

Follow-On Inspection

(g) Within 32,900 landings after accomplishment of the modification specified in paragraph (g)(1), (g)(2), (g)(3), or (g)(4) of this AD, or within 2 years after the effective date of this AD, whichever occurs later, perform an inspection to detect cracks in the area specified in paragraph (a) of this AD, and corrective actions, if necessary; per a method approved by the Manager, Los Angeles ACO.

(1) Modification required by paragraph (d)(1) of this AD;

(2) Modification required by paragraph (e) of this AD;

(3) Modification specified in paragraph D. of AD 86-20-08; or

(4) Modification required by paragraph B. of AD 90-16-05.

Certain Actions Constitute Compliance With AD 90-16-05

(h) Accomplishment of the eddy current inspection(s) required by this AD constitutes compliance with the inspections required by paragraph A. of AD 90-16-05, as it pertains to McDonnell Douglas DC-8 Service Bulletin 57-90, Revision 2, dated March 1, 1991. Accomplishment of the eddy current inspection(s) does not terminate the remaining requirements of AD 90-16-05, as it applies to other service bulletins. Operators are required to continue to inspect and/or modify per the other service bulletins listed in that AD.

Alternative Methods of Compliance

(i) An alternative method of compliance or adjustment of the compliance time that provides an acceptable level of safety may be used if approved by the Manager, Los Angeles ACO. Operators shall submit their requests through an appropriate FAA Principal Maintenance Inspector, who may add comments and then send it to the Manager, Los Angeles ACO.

Note 4: Information concerning the existence of approved alternative methods of compliance with this AD, if any, may be obtained from the Los Angeles ACO.

Special Flight Permits

(j) Special flight permits may be issued in accordance with sections 21.197 and 21.199 of the Federal Aviation Regulations (14 CFR 21.197 and 21.199) to operate the airplane to a location where the requirements of this AD can be accomplished.

Issued in Renton, Washington, on January 23, 2003.
Vi L. Lipski,
Manager, Transport Airplane Directorate, Aircraft Certification Service.

[FR Doc. 03-2095 Filed 1-29-03; 8:45 am]

BILLING CODE 4910-13-P